DEPARTMENT OF HOMELAND SECURITY

Coast Guard

[USCG-1998-3417]

RIN 1625-AA19 (Formerly RIN 2115-AF60)

Salvage and Marine Firefighting Requirements; Vessel Response Plans for Oil

AGENCY: Coast Guard, DHS.

ACTION: Notice of availability and request for comments.

SUMMARY: The Coast Guard announces the availability of a draft Programmatic Environmental Assessment (PEA) on its proposal to clarify, and set new response time requirements for salvage and marine firefighting requirements in the vessel response plans for oil. We request your comments on the draft PEA.

DATES: Comments and related material must reach the Docket Management Facility on or before February 17, 2006.

ADDRESSES: You may submit comments identified by Coast Guard docket number USCG-1998-3417 to the Docket Management Facility at the U.S. Department of Transportation. To avoid duplication, please use only one of the following methods:

(1) Web site: http://dms.dot.gov.

(2) Mail: Docket Management Facility, U.S. Department of Transportation, 400 Seventh Street SW., Washington, DC 20590-0001.

(3) Fax: 202-493-2251.

(4) Delivery: Room PL-401 on the Plaza level of the Nassif Building, 400 Seventh Street SW., Washington, DC, between 9 a.m. and 5 p.m., Monday through Friday, except Federal holidays. The telephone number is 202-366-9329.

FOR FURTHER INFORMATION CONTACT: If you have questions on this notice, the proposed project, or the associated draft Programmatic Environmental Assessment, call Mr. Frank Esposito, Office of Environmental Law (G-LEL), Coast Guard, telephone 202-267-0053, or e-mail fesposito@comdt.uscg.mil. If you have questions on viewing or submitting material to the docket, call Ms. Renee V. Wright, Program Manager, Docket Operations, telephone 202-493-0402.

SUPPLEMENTARY INFORMATION:

Public Participation and Request for Comments

We encourage you to submit comments and related material on the draft Programmatic Environmental Assessment. All comments received will be posted, without change, to http://dms.dot.gov and will include any personal information you have provided. We have an agreement with the Department of Transportation (DOT) to use the Docket Management Facility. Please see DOT's “Privacy Act” paragraph below.

Submitting comments: If you submit a comment, please include your name and address, identify the docket number for this notice (USCG-1998-3417), and give the reason for each comment. You may submit your comments and material by electronic means, mail, fax, or delivery to the Docket Management Facility at the address under ADDRESSES, but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period.

Viewing the comments and draft Programmatic Environmental Assessment: To view the comments and draft Programmatic Environmental Assessment, go to http://dms.dot.gov at any time, click on “Simple Search,” enter the last four digits of the docket number for this notice, and click on “Search.” You may also visit the Docket Management Facility in room PL-401 on the Plaza level of the Nassif Building, 400 Seventh Street SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement as published in the Federal Register on April 11, 2000 (65 FR 19477), or you may visit http://dms.dot.gov.

Proposed Action

The Coast Guard published a Notice of Proposed Rulemaking for “Salvage and Marine Firefighting Requirements; Vessel Response Plans for Oil” in the Federal Register on May 10, 2002 (67 FR 31868). Please refer to this Notice of Proposed Rulemaking for a summary of the regulatory history behind that Notice of Proposed Rulemaking. The Notice of Proposed Rulemaking is available in the DOT docket.

During the comment period on the Notice of Proposed Rulemaking, we received comments both in the docket and at public meetings challenging our reliance upon an environmental analysis done in 1992 to support the publication of the original vessel response plan requirements. These comments argued that it was old and out of date, and missing pieces that would be required of an Environmental Assessment done today. We reviewed those comments, as well as the old Environmental assessment/Finding of No Significant Impact, and determined that while the original study remains valid for the non-salvage portion of the vessel response plan we should conduct a new Environmental Analysis before finalizing the salvage and marine firefighting rulemaking.

Draft Programmatic Environmental Assessment

We have prepared a draft Programmatic Environmental Assessment. See “Viewing the comments and draft Programmatic Environmental Assessment” above. The draft Programmatic Environmental Assessment identifies and examines the reasonable alternatives and assesses their potential environmental impact.

We are requesting your comments on environmental concerns that you may have related to the Programmatic Environmental Assessment. This includes suggesting analyses and methodologies for use in the Programmatic Environmental Assessment or possible sources of data or information not included in the draft Programmatic Environmental Assessment. Your comments will be considered in preparing the final Programmatic Environmental Assessment.

Dated: December 27, 2005.
Craig E. Bone,
Rear Admiral, U.S. Coast Guard, Acting Assistant Commandant for Marine Safety, Security and Environmental Protection.

[FR Doc. E5-8200 Filed 12-30-05; 8:45 am]

BILLING CODE 4910-15-P